DEPARTMENT OF HOMELAND SECURITY

Federal Emergency Management Agency

[Docket ID FEMA-2021-0002; Internal Agency Docket No. FEMA-B-2170]

Proposed Flood Hazard Determinations

AGENCY: Federal Emergency Management Agency, Department of Homeland Security.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP).

DATES: Comments are to be submitted on or before January 11, 2022.

ADDRESSES: The Preliminary FIRM, and where applicable, the FIS report for each community are available for inspection at both the online location https://hazards.fema.gov/femaportal/prelimdownload and the respective Community Map Repository address listed in the tables below. Additionally, the current effective FIRM and FIS report for each community are accessible online through the FEMA Map Service Center at https://msc.fema.gov for comparison.

You may submit comments, identified by Docket No. FEMA-B-2170, to Rick Sacbibit, Chief, Engineering Services Branch, Federal Insurance and Mitigation Administration, FEMA, 400 C Street SW, Washington, DC 20472, (202) 646-7659, or (email) patrick.sacbibit@fema.dhs.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at https://www.floodsrp.org/pdfs/srp_overview.pdf.

The watersheds and/or communities affected are listed in the tables below. The Preliminary FIRM, and where applicable, FIS report for each community are available for inspection at both the online location https://hazards.fema.gov/femaportal/prelimdownload and the respective Community Map Repository address listed in the tables. For communities with multiple ongoing Preliminary studies, the studies can be identified by the unique project number and Preliminary FIRM date listed in the tables. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

Community | Community map repository address
Pottawatomie County, Kansas and Incorporated Areas
Project: 15-07-0283S Preliminary Date: January 31, 2020 and June 18, 2021
City of St. Marys | City Hall, 200 South 7th Street, St. Marys, KS 66536.
City of Wamego | City Hall, 430 Lincoln Avenue, Wamego, KS 66547.
Unincorporated Areas of Pottawatomie County | Pottawatomie County Courthouse, 108 North Main Street, Westmoreland, KS 66549.
Leelanau County, Michigan (All Jurisdictions)
Project: 13-05-4238S Preliminary Date: September 30, 2020 and April 30, 2021
Charter Township of Elmwood | Elmwood Township Hall, 10090 East Lincoln Road, Traverse City, MI 49684.
City of Traverse City | Governmental Center, 400 Boardman Avenue, Traverse City, MI 49684.
Grand Traverse Band of Ottawa and Chippewa Indians | Grand Traverse Band of Ottawa & Chippewa Indians Tribal Government, 2605 North West Bay Shore Drive, Peshawbestown, MI 49682.
Township of Bingham | Bingham Township Office, 7171 South Center Highway, Traverse City, MI 49684.
Township of Centerville | Centerville Township Office, 5001 South French Road, Cedar, MI 49621.
Township of Cleveland | Cleveland Township Hall, 955 East Harbor Highway, Maple City, MI 49664.
Township of Empire | Township Hall, 10088 West Front Street, Empire, MI 49630.
Township of Glen Arbor | Township Hall, 6394 West Western Avenue, Glen Arbor, MI 49636.
Township of Leelanau | Leelanau Township Hall, 119 East Nagonaba Street, Northport, MI 49670.
Township of Leland | Leland Township Hall, 123 North Saint Joseph Street, Lake Leelanau, MI 49653.
Township of Suttons Bay | Township Office, 95 West Fourth Street, Suttons Bay, MI 49682.
Village of Empire | Village Office, 11518 South LaCore Street, Empire, MI 49630.
Village of Northport | Village Office, 116 West Nagonaba Street, Northport, MI 49670.
Village of Suttons Bay | Village Hall, 420 North Front Street, Suttons Bay, MI 49682.
Blue Earth County, Minnesota and Incorporated Areas
Project: 07-05-0439S Preliminary Date: December 09, 2009, April 20, 2011, September 12, 2018 and August 28, 2020
City of Eagle Lake | City Hall, 705 Parkway Avenue, Eagle Lake, MN 56024.

[FR Doc. 2021-22162 Filed 10-12-21; 8:45 am]

BILLING CODE 9110-12-P